DEPARTMENT OF ENERGY

Federal Energy Regulatory Commission

[Docket No. RM10-13-000]

Credit Reforms in Organized Wholesale Electric Markets; Further Notice Concerning Technical Conference

May 10, 2010.

Take notice that on May 11, 2010, the Federal Energy Regulatory Commission staff will convene a technical conference related to the Commission's Notice of Proposed Rulemaking on Credit Reforms in Organized Wholesale Electric Markets,¹ as previously announced.²

¹ This workshop is being held in accordance with the Commission's order Obtaining Guidance on Regulatory Requirements, 123 FERC ¶ 61,157 (2008).

² Notice of Technical Conference, 75 FR 20991, as supplemented by Notice of Agenda for Technical Conference, issued May 5, 2010.

The discussions at the conference, which is open to the public, may address matters at issue in the following Commission proceedings:

Docket No. ER10-942-000, ISO New England Inc., and New England Power Pool.

Docket No. ER10-1190-000, ISO New England Inc., and New England Power Pool.

Docket No. ER10-1196-000, PJM Interconnection, L.L.C., and PJM Settlement, Inc.

For more information, please contact Sarah McKinley, 202-502-8368, sarah.mckinley@ferc.gov; for logistical issues, and Scott Miller, 202-502-8456, scott.miller@ferc.gov; or Christina Hayes 202-502-6194, christina.hayes@ferc.gov; for other concerns.

Kimberly D. Bose,
Secretary.

[FR Doc. 2010-11627 Filed 5-14-10; 8:45 am]

BILLING CODE 6717-01-P